FEDERAL MARITIME COMMISSION

[DOCKET NO. 16-11]

Notice of Filing of Complaint and Assignment—Correction

LANDERS BROTHERS AUTO GROUP, INC. D/B/A LANDERS HONDA (JONESBORO), LANDERS BROTHERS AUTO NO. 4, LLC D/B/A/LANDERS HONDA (PINE BLUFF), INDIVIDUALLY AND ON BEHALF OF OTHERS SIMILARLY SITUATED

V.

NIPPON YUSEN KABUSHIKI KAISHA, NYK LINE (NORTH AMERICA) INC., MITSUI O.S.K. LINES, LTD., MITSUI O.S.K. BULK SHIPPING (USA), INC., WORLD LOGISTICS SERVICE (USA) INC., HÖEGH AUTOLINERS AS, HÖEGH AUTOLINERS, INC., NISSAN MOTOR CAR CARRIERS CO. LTD., KAWASAKI KISEN KAISHA, LTD., “K” LINE AMERICA, INC., WALLENIUS WILHELMSEN LOGISTICS AS, WALLENIUS WILHELMSEN LOGISTICS AMERICAS LLC, EUKOR CAR CARRIERS INC., COMPAÑÍA SUD AMERICANA DE VAPORES S.A., AND CSAV AGENCY NORTH AMERICA, LLC

In a Notice of Filing of Complaint and Assignment published on Wednesday, May 4, 2016, 81 FR 26793, the last sentence stated that “[t]he initial decision of the presiding officer in this proceeding shall be issued by April 28, 2017 and the final decision of the Commission shall be issued by November 13, 2017.” Due to a clerical error, the date for the initial decision was incorrect. That sentence is corrected to read as follows: “The initial decision of the presiding officer in this proceeding shall be issued by May 12, 2017 and the final decision of the Commission shall be issued by November 13, 2017.”

Karen V. Gregory,
Secretary.

[FR Doc. 2016-11019 Filed 5-10-16; 8:45 am]

BILLING CODE 6731-AA-P